DEPARTMENT OF DEFENSE

Office of the Secretary

32 CFR Part 204

[Docket ID: DOD-2018-OS-0044]

RIN 0790-AK45

User Fees

AGENCY: Office of the Under Secretary of Defense (Comptroller), Department of Defense (DoD).

ACTION: Final rule.

SUMMARY: This final rule removes DoD's regulation that provides instructions to DoD Components on establishing appropriate fees for authorized services supplied by DoD organizations when such services provide special benefits to an identifiable recipient beyond those that accrue to the general public. User fees paid by the public represent either the full cost to the DoD, or the market value of providing the service, resource, or good. The regulation is unnecessary because it restates current law; sets forth internal policy and procedures; and conveys to the public administrative and procedural information that does not require rulemaking. Therefore, this rule is unnecessary and can be removed from the CFR.

DATES: This rule is effective on September 10, 2020.

FOR FURTHER INFORMATION CONTACT: Kellie Allison at 703-614-0410.

SUPPLEMENTARY INFORMATION: It has been determined that publication of this CFR part removal for public comment is impracticable, unnecessary, and contrary to public interest since it is based on removing DoD guidance that is not required to be codified and is publicly available on the Department's website. DoD guidance will continue to be published in DoD 7000.14-R, Financial Management Regulation, Volume 11A, Chapter 4, “User Fees” available at https://comptroller.defense.gov/Portals/45/documents/fmr/current/11a/11a_04.pdf.

This rule is not significant under Executive Order (E.O.) 12866, “Regulatory Planning and Review,” therefore, E.O. 13771, “Reducing Regulation and Controlling Regulatory Costs,” does not apply.

This removal supports a recommendation of the DoD Regulatory Reform Task Force.

List of Subjects in 32 CFR Part 204

Accounting, Armed forces, Government property.

PART 204—[REMOVED]

Accordingly, by the authority of 5 U.S.C. 301, 32 CFR part 204 is removed.

Dated: September 4, 2020.
Aaron T. Siegel,
Alternate OSD Federal Register Liaison Officer, Department of Defense.

[FR Doc. 2020-20005 Filed 9-9-20; 8:45 am]

BILLING CODE 5001-06-P